DEPARTMENT OF HEALTH AND HUMAN SERVICES

Centers for Disease Control and Prevention

[60Day-20-20QJ; Docket No. CDC-2020-0079]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled National Survey of Community-Based Survey of Supports for Healthy Eating and Active Living. This data collection effort is a national survey to assess local governments' policies and practices that support healthy eating and active living among their residents.

DATES: CDC must receive written comments on or before September 18, 2020.

ADDRESSES: You may submit comments, identified by Docket No. CDC-2020-0079 by any of the following methods:

• Federal eRulemaking Portal: Regulations.gov. Follow the instructions for submitting comments.

• Mail: Jeffrey M. Zirger, Ph.D., Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

National Survey of Community-Based Survey of Supports for Healthy Eating and Active Living (CBS HEAL)—New—National Center for Chronic Disease Prevention and Health Promotion (NCCDPHP), Centers for Disease Control and Prevention (CDC).

Background and Brief Description

Currently, little is known about the environmental and policy supports for healthful diets and regular physical activity within a community across the U.S., and how these supports are changing across time. As a result, CDC plans to conduct a survey to address this gap in knowledge. The survey will be administered to a nationally representative sample of 4,417 communities. Respondents will be city planners/managers in these communities. Information will be collected about the following topics: Communitywide planning efforts for healthy eating and active living, the built environment and policies that support physical activity, zoning that supports healthy eating and active living, public transportation policies that support healthy eating and active living, other policies and practices that support access to healthy food and healthy eating, and policies that support employee breastfeeding. Data will be collected using a secure, web-based survey data collection system, with telephone and mail follow-up for non-response.

The proposed survey content and data collection procedures incorporate lessons learned during an initial pilot study (OMB No. 0920-0934, “Pilot Study of Community-Based Surveillance and Supports for Healthy Eating/Active Living”, expiration 5/31/2013), as well as the 2014 baseline study (OMB control number 0920-1007, “National Survey of Community Based Policy and Environmental Supports for Healthy Eating and Active Living”, expiration 1/1/2015).

Assessment of policy and environmental supports for healthful eating and physical activity will serve multiple uses. First, the collected data will describe the characteristics of communities that have specific policy and practice supports favorable for healthy diets and regular physical activity and progress since 2014. Second, the collected data will help identify the extent to which communities implement strategies consistent with current national recommendations. Third, local agencies may use the data collected to consider how they compare nationally or with other municipalities of a similar geography, population size, or urban status. Finally, this information can help guide communities and researchers in local efforts to implement and evaluate policies and practices that support healthy behaviors and choices.

CDC requests OMB approval for an estimated 1,693 burden hours annually. Participation is voluntary and there are no costs to respondents other than their time.

Estimated Annualized Burden Hours
Type of respondents | Form name | Number of respondents | Number of responses per respondent | Average burden per response (in hours) | Total burden hours
City or Town Planner or Manager | National Survey of Community-Based Policy and Environmental Supports for Healthy Eating and Active Living | 2,650 | 1 | 30/60 | 1,325
| Telephone Non-response Follow-up Contact Script | 4,417 | 1 | 5/60 | 368
Total |  |  |  |  | 1,693

Jeffrey M. Zirger,
Lead, Information Collection Review Office, Office of Scientific Integrity, Office of Science, Centers for Disease Control and Prevention.

[FR Doc. 2020-15657 Filed 7-17-20; 8:45 am]

BILLING CODE 4163-18-P